DEPARTMENT OF LABOR

Employment and Training Administration

[TA-W-41,438]

Alliance Machine Co., Division of Reunion Industries, Inc., Alliance, Ohio; Notice of Termination of Investigation

Pursuant to section 221 of the Trade Act of 1974, an investigation was initiated on April 29, 2002 in response to a petition filed on the same date on behalf of workers at Alliance Machine Company, Division of Reunion Industries, Inc., Alliance, Ohio.

The company official submitting the petition has requested that the petition be withdrawn. Consequently, further investigation in this case would serve no purpose, and the investigation has been terminated.

Signed in Washington, DC this 28th day of June, 2002.
Linda G. Poole,
Certifying Officer, Division of Trade Adjustment Assistance.

[FR Doc. 02-17139 Filed 7-8-02; 8:45 am]

BILLING CODE 4510-30-P